DEPARTMENT OF ENERGY

Federal Energy Regulatory Commission

[Docket No. IC25-6-000]

Commission Information Collection Activities (FERC Form No. 60, FERC-61, and FERC-555a); Consolidated Comment Request; Extension; Correction

AGENCY: Federal Energy Regulatory Commission.

ACTION: Notice; correction.

SUMMARY: The Federal Energy Regulatory Commission published in the Federal Register of May 15, 2025, a notice of information collection and request for comments. “Golden Pass LNG Terminal LLC” was inadvertently listed in the header section of the notice.

FOR FURTHER INFORMATION CONTACT: Kayla Williams, (202) 502-6468. DataClearance@FERC.gov.

SUPPLEMENTARY INFORMATION:

Correction

In the Federal Register of May 15, 2025, in FR Doc. 2025-08652, on page 20649, in the second column, correct the header of the notice to read:

DEPARTMENT OF ENERGY

Federal Energy Regulatory Commission

[Docket No. IC25-6-000]

Commission Information Collection Activities (FERC Form No. 60, FERC-61, and FERC-555A); Consolidated Comment Request; Extension

Dated: May 15, 2025.
Debbie-Anne A. Reese,
Secretary.

[FR Doc. 2025-09077 Filed 5-20-25; 8:45 am]

BILLING CODE 6717-01-P